ENVIRONMENTAL PROTECTION AGENCY

[ER-FRL-9000-9]

Environmental Impacts Statements; Notice of Availability

Responsible Agency: Office of Federal Activities, General Information (202) 564-1399 or http://www.epa.gov/compliance/nepa/.

Weekly receipt of Environmental Impact Statements

Filed 12/27/2011 through 12/30/2011

Pursuant to 40 CFR 1506.9.

Notice

Section 309(a) of the Clean Air Act requires that EPA make public its comments on EISs issued by other Federal agencies. EPA's comment letters on EIS are available at: http://www.epa.gov/compliance/nepa/eisdata.html.

EIS No. 20110439, Final EIS, USACE, FL, Central and Southern Florida Project, Comprehensive Everglades Restoration Plan, Biscayne Bay Coastal Wetlands Phase I Project, To Restore the Natural Hydrology and Ecosystem in an Area Degraded by Drainage Systems and Land Development, Miami-Dade County, FL, Review Period Ends: 02/06/2012, Contact: Brad Tarr (904) 232-3582.

EIS No. 20110440, Revised Draft EIS, USFS, ID, Idaho Panhandle National Forests, Land Management Plan, Revises the 1987 Forest Plan, Implementation, Boundary, Bonner, Kootenai, Benewah, and Shoshone Counties, ID and Pend Oreille County, WA, Comment Period Ends: 02/21/2012, Contact: Mary Farnsworth (208) 765-7223.

EIS No. 20110441, Revised Draft EIS, USFS, MT, Kootenai National Forest Land Management Plan, Revises the 1987 Forest Plan, Implementation, Lincoln, Sanders, Flathead Counties, MT and Bonner and Boundary Counties, ID, Comment Period Ends: 02/21/2012, Contact: Paul Bradford (406) 293-6211.

EIS No. 20110443, Final EIS, USFS, VT, Deerfield Wind Project, Updated Information, Application for a Land Use Authorization to Construct and Operate a Wind Energy Facility, Special Use Authorization Permit, Green Mountain National Forest, Bennington County, VT, Review Period Ends: 02/06/2012, Contact: Bob Bayer (802) 362-2307 ext. 218.

Amended Notices

EIS No. 20110423, Draft EIS, NRC, SC, William States Lee III Nuclear Station Units 1 and 2 Combined Licenses (COLs) Application, Constructing and Operating Two New Nuclear Units at the Lee Nuclear Station Site, NUREG-2111, Cherokee County, SC, Comment Period Ends: 03/06/2012, Contact: Sarah Lopas (301) 415-1147. Revision to Notice Published 12/23/2011: Extending Comment Period from 2/6/2012 to 3/6/2012.

EIS No. 20110436, Draft EIS, NOAA, AK, Effects of Oil and Gas Activities in the Arctic Ocean, Beaufort and Chukchi Seas, AK, Comment Period Ends: 02/13/2012, Contact: James H. Lecky (301) 427-8400. Revision to Notice Published 12/30/11: Agency Contact Phone Number changed to (301) 427-8400.

Dated: January 3, 2012.
Cliff Rader,
Director, NEPA Compliance Division, Office of Federal Activities.

[FR Doc. 2012-53 Filed 1-5-12; 8:45 am]

BILLING CODE 6560-50-P